FEDERAL DEPOSIT INSURANCE CORPORATION

Application for Deposit Insurance for Wal-Mart Bank

AGENCY: Federal Deposit Insurance Corporation (FDIC).

ACTION: Notice of public hearing.

SUMMARY: This notice announces two public hearing(s) on the application for Federal deposit insurance filed on behalf of the proposed Wal-Mart Bank (Application). A copy of the public portions of the Application together with the comments received on the Application are available on the FDIC's Web site at http:www.fdic.gov. The FDIC has scheduled two hearings to obtain the public's views on the issues presented by the Application. This notice sets forth the dates, times, locations, and other details of the hearings. Opportunities to make an oral presentation at the hearings are limited, and not all requests to make an oral presentation may be granted. Attendance at the hearing is not required in order to submit a written statement.

DATES: The hearings will be held on Monday and Tuesday, April 10th and 11th, 2006 in the Washington, DC area and on Tuesday and Wednesday, April 25th and 26th, 2006 in the Kansas City, Missouri metro area. On each of the four hearing days the hearing will commence at 9 a.m. and end at approximately 5:30 p.m. Any person who would like to make an oral presentation at one of the hearings must complete two steps. First, no later than 5 p.m. on Friday, March 10th, 2006 he or she must deliver to the Executive Secretary of the FDIC a written request to make an oral presentation. Second, no later than 5 p.m. on Tuesday, March 28th, 2006 he or she must deliver to the Executive Secretary a copy of his or her written statement plus a two-page (or less) summary of that statement. Please include in your request to make an oral presentation the following: (a) Your name, address, telephone number, and e-mail address, (b), the name and addresses of the organization or institution that you represent, if applicable, and (c) the location (Washington, DC area or Kansas City, Missouri metro area) where you would like to make your presentation. No later than March 20th, 2006 the FDIC will notify each person who has submitted a request to make an oral presentation at the hearing whether the FDIC will be able to accommodate his or her request. Each written statement submitted to the FDIC must also include your name, address, telephone number, and e-mail address.

ADDRESSES: No later than March 14th, 2006, the FDIC will announce the exact locations of the hearing in the Washington, DC area and in the Kansas City, Missouri metro area. The announcement will be made on the FDIC's Web site http:www.fdic.gov, by press release, and by a recorded message available by calling 877-872-1348. In addition, the FDIC will specifically provide the exact locations of the hearings to each person whose request to make an oral presentation has been granted.

While the FDIC will accept presentation requests, statements, and summaries either in paper form or in electronic form, the FDIC encourages all persons to submit their documents electronically, if possible. You may submit your written request to make an oral presentation, a copy of your written statement and the two-page (or less) summary of your statements by any of the following methods:

• E-mail to: Publichearing@FDIC.gov.

• Mail to: Robert E. Feldman, Executive Secretary, Attention: Comments/Legal ESS, Room 3060, Federal Deposit Insurance Corporation, 550 17th Street, NW., Washington, DC 20429.

• Hand Deliver/Courier: The guard station at the area of the 550 17th Street Building (location on F Street), on business days between 7 a.m. and 5 p.m.

Public Inspection: All requests to make an oral presentation, statements, and summaries received by the FDIC may be inspected and photocopies in the FDIC Public Information Center, 3503 North Fairfax Drive, Room VS-E-1002, Arlington, VA 22226, between 9 a.m. and 5 p.m. (ET) Monday through Friday. Alternatively, the FDIC will send copies of these documents via the U.S. Postal Service upon request by calling (877) ASK-FDIC/(703) 562-2200, by FAX to (703) 562-2296, or by e-mail to publicinfo@fdic.gov. The FDIC may impose fees for photocopying at the rate of $0.20 per page and for postage at the rates charged by the U.S. Postal Service for the type of delivery requested.

Internet Posting: All requests to make an oral presentation, statements, and summaries received by the FDIC will be posted to: http://www.fdic.gov/regulations/laws/walmart/index.html. However, street addresses, telephone numbers, and e-mail addresses will not be posted, if specifically requested.

FOR FURTHER INFORMATION CONTACT: For questions regarding the conduct of the hearings: contact Valerie Best, Assistant Executive Secretary, (202) 898-3812; Legal Division, Federal Deposit Insurance Corporation, Washington, DC 20429.

SUPPLEMENTARY INFORMATION:

I. Overview of the Application

On July 19, 2005 representatives of the proposed Wal-Mart Bank (Bank) filed the Application with the FDIC. The FDIC is authorized to grant or deny Federal deposit insurance to a depository institution pursuant to section 5 of the Federal Deposit Insurance Act (FDI Act), 12 U.S.C. 1815. Wal-Mart Bank is a proposed Utah industrial bank and as such is a state nonmember bank under the FDI Act.

The FDIC has made available to the public the non-confidential portions of the application, supporting data, supplementary information and any comments received on the Application. Collectively, this information is known as the public file. The public file is available at the FDIC's Regional Office in San Francisco and on the FDIC's Web site at http://www.fdic.gov.

At approximately the same time that the Application was filed with the FDIC, an application for an industrial bank charter was filed with the State of Utah's Department of Financial Institutions. On July 19, 2005 the FDIC accepted the Application for processing. The FDIC is currently engaged in analyzing and evaluating the Application, and neither the FDIC nor the State of Utah has acted to approve or disapprove either application.

In order to assist the FDIC in determining whether to approve or disapprove the Application, the FDIC has decided to hold hearings to obtain the public's views on the issues raised by the Application. There has been considerable public interest in the Application. The FDIC believes that public participation will provide valuable insight into the issues presented by the application and will serve the public interest.

On February 21, 2006 by resolution the Board of Directors of the FDIC (Board) delegated to the Acting Chairman of the Board the authority to designate a Presiding Officer and such other Hearing Officers as the Acting Chairman deems appropriate for the hearings on the Application. In addition, by means of that same resolution, and in accordance with 12 CFR 303.10(m), the Board delegated to any Presiding Officer designated by the Acting Chairman the authority to modify the procedures for the hearings provided in 12 CFR 303.10.

II. Public Hearings

The FDIC will hold hearings in two locations: the Washington, DC area and the Kansas City, Missouri metro area.

The hearing in the Washington, D.C. area will be held on Monday and Tuesday, April 10th and 11th, 2006 from 9 a.m. to approximately 5:30 p.m.

The hearing in the Kansas City, Missouri metro area, will be held on Tuesday and Wednesday, April 25th and 26th, 2006 from 9 a.m. to approximately 5:30 p.m.

No later than March 14th, 2006, the FDIC will announce the exact locations of the hearings in the Washington, DC area and in the Kansas City, Missouri metro area. The announcement will be made on the FDIC's Web site at http://fdic.gov, by press release, and by a recorded message available by calling 877-872-1348.

A Presiding Officer and such other Hearing Officers as may be designated by the FDIC will preside over the hearings. The hearings will be informal, and neither the rules of evidence nor the rules of civil procedure will apply. Persons making an oral presentation will be able to express their views and insights regarding the Application and the issues raised by the Application. However, only the Hearing Officers may ask the presenters questions in order to clarify the presenters' statements. We anticipate that most presenters at the hearings will be limited to five (5) minutes for their presentations. Additional time will be provided for presenters to answer any questions asked by the Hearing Officers.

Any person who would like to make an oral presentation at one of the hearings must complete two steps. First, no later than 5 p.m. on Friday, March 10th, 2006 he or she must deliver to the Executive Secretary of the FDIC a written request to make an oral presentation. Second, no later than 5 p.m. on Tuesday, March 28th, 2006 he or she must deliver to the Executive Secretary a copy of his or her written statement plus a two-page (or less) summary of that statement. Please include in your request to make an oral presentation the following: (a) Your name, address, telephone number, and e-mail address, (b) the name and address of the organization or institution that you represent, if applicable, and (c) the location (Washington, DC area or Kansas City, Missouri metro area) where you would like to make your presentation. No later than March 20th, 2006 the FDIC will notify each person who has submitted a request to make an oral presentation at the hearings whether the FDIC will be able to accommodate his or her request. Each written statement submitted to the FDIC must also include your name, address, telephone number, and e-mail address.

Opportunities to make an oral presentation at the hearings are limited, and not all requests may be granted. If the FDIC grants a person's request to make an oral presentation, the FDIC's notice to such person will include the time scheduled for his or her presentation and a hearing agenda. Depending upon the number of the persons making an oral presentation, the FDIC may organize presenters into panels or groups in order to accommodate as many presenters as possible.

Persons who would like to attend the hearings, but who do not want to make an oral presentation will be admitted to the hearings on a first-come-first-served basis to the extent space is available. Both presenters and attendees should plan to arrive early; all persons presenting at, or attending the hearings, will be subject to security screening consistent with the security measures in place at all Federal Buildings.

Any person may submit a written statement of their views even if he or she does not want to make an oral presentation at the hearings. Pursuant to the FDIC's Rules and Regulations the FDIC has already received approximately 1,900 comment letters on the Application, and those comment letters are posted on the FDIC's Web site at http://www.fdic.gov. All of those comment letters will be considered as part of the record of this hearing. As a result, there is no need to resubmit those comments in order for them to be considered as part of the record of this hearing. Any person submitting a written statement of their views should do so in the manner specified in the ADDRESSES section of this Notice and should include his or her name, address, telephone number, and e-mail address, and the name and address of the organization or institution that he or she represents, if applicable.

Any person may submit a supplemental statement in addition to the statement presented at the hearings until Friday, May 5th, 2006.

The hearings will be transcribed, and the transcript will be posted on the FDIC's Web site as soon as it become available. Also, the FDIC will provide presenters and attendees with any auxiliary aids (e.g., sign language interpretation) required for the hearings. Persons needing such assistance should call (202) 416-2089 (Voice); or (202) 416-2007 (TTY), to make the necessary arrangements no later than March 14th, 2006.

Dated at Washington DC this 21st day of February, 2006.
By order of the Board of Directors.
Robert E. Feldman,
Executive Secretary.

[FR Doc. 06-1875 Filed 2-28-06; 8:45 am]

BILLING CODE 6714-01-M